Title 3—

The President

Proclamation 10304 of November 8, 2021

World Freedom Day, 2021

By the President of the United States of America

A Proclamation

For nearly 3 decades, the Berlin Wall stood as a physical symbol of the Cold War, dividing democratic West Berlin from communist East Berlin. Today, we remember the East Germans who escaped and those who died attempting to attain a life of freedom. We recognize the irrepressible human spirit that no wall could contain, which fueled the civil resistance, sacrifice, and courageous defiance of people across Central and Eastern Europe. We recall the euphoria and the hope of the East and West Berliners who gathered at the wall on November 9, 1989, chanting “Tor auf!”—“Open the gate!”

It was the aspirations for freedom of the people of Central and Eastern Europe that ultimately brought down the Berlin Wall and overcame the Soviet Union's attempts to keep Europe divided by force. On World Freedom Day, we commemorate this historic event and honor all those who peacefully rose up and claimed their freedom and all those who continue their legacy by peacefully working to end tyranny and oppression in our world today.

Since the Berlin Wall was torn down in 1989, we have seen great progress to advance human rights and fundamental freedoms as well as to build and consolidate democratic institutions across the formerly communist countries of Central and Eastern Europe and around the world. However, democracy is still fragile, and in too many places it remains under threat. Authoritarians elevate their own power over the rights of their citizens, and around the world we see aspiring autocrats trample the rule of law, attack freedom of the press, and undermine an independent judiciary.

In the face of resurgent authoritarianism and attacks on human rights around the globe, the United States is working to support democratic renewal and resilience at home and abroad. It remains as important as ever to counter the range of threats to democracy—and, ultimately, peace and stability—including transnational repression, corruption, cyberattacks, disinformation, digital authoritarianism, inequality and injustice, voter suppression, and economic coercion.

World Freedom Day also reminds us of the hopeful future people still seek for themselves around the world. In recent years, brave women and youths in Sudan have withstood violence and oppression to push a genocidal dictator from power and today continue to defend their democratic progress. Proud Moldovans helped deliver a victory for the forces of democracy. Citizens of Zambia, especially young people, turned out in historic numbers to elect their new president. Ukraine continues to make progress in countering corruption, safeguarding human rights, and strengthening its democratic institutions all while standing up to Russian aggression. Courageous anti-corruption activists, human rights defenders, journalists, and peace protestors in Belarus, Burma, Cuba, Hong Kong, Syria, Venezuela, and elsewhere continue to demand respect for their human rights and a democratic future. To all those who continue to endure repression under authoritarian regimes, know that the people of the United States stand with you.

Today, we reaffirm our commitment to the ideal that democracy—a Government of the people, by the people, and for the people—is how we best safeguard the rights, freedoms, and dignity that belong to every person. Together with other free nations, the United States remains committed to the vital work of strengthening our democratic institutions, defending civil society, advancing human rights, and holding those who commit abuses and foster corruption accountable. To demonstrate this, on December 9-10, 2021, I will host a virtual Summit for Democracy to help set an agenda for democratic renewal across the globe.

NOW, THEREFORE, I, JOSEPH R. BIDEN JR., President of the United States of America, do hereby proclaim November 9, 2021, as World Freedom Day. I call upon the people of the United States of America to recall the hope symbolized by the fall of the Berlin Wall and reaffirm our dedication to freedom and democracy.

IN WITNESS WHEREOF, I have hereunto set my hand this eighth day of November, in the year of our Lord two thousand twenty-one, and of the Independence of the United States of America the two hundred and forty-sixth.

[FR Doc. 2021-24959

Filed 11-12-21; 8:45 am]

Billing code 3395-F2-P